DEPARTMENT OF HOUSING AND URBAN DEVELOPMENT

[Docket No. FR-7034-N-41; OMB Control No.: 2502-0615]

30-Day Notice of Proposed Information Collection: Survey To Assess Operational and Capacity Status of Housing Counseling Agencies Due to Disaster/National Emergency

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: August 25, 2021.

ADDRESSES: Interested persons are invited to submit comments regarding this proposal. Written comments and recommendations for the proposed information collection should be sent within 30 days of publication of this notice to www.reginfo.gov/public/do/Start Printed Page 15501PRAMain.Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD has submitted to OMB a request for approval of the information collection described in Section A. The Federal Register notice that solicited public comment on the information collection for a period of 60 days was published on May 10, 2021, at 88, FR 24880.

A. Overview of Information Collection

Title of Information Collection: Survey to Assess Operational Status and Capacity of Housing Counseling Agencies Due to a Disaster/National Emergency.

OMB Approval Number: 2502-0615.

OMB Expiration Date: May 31, 2021.

Type of Request: Revision of a currently approved collection.

Form Number: None.

Description of the need for the information and proposed use: The Disaster/National Emergency Survey will assess the operational and capacity status of Housing Counseling Agencies impacted by COVID-19 and other disasters and national emergencies. This Survey is necessary to assess the impact of the disasters and national emergencies on the operation of HUD-approved housing counseling agencies. This survey will more accurately assess the current operating status and capacity of housing counseling agencies impacted by disasters or national emergencies. The information collected will be used to identify the needs of the housing counseling agency and to inform OHC about the types of support that would be the most responsive to the needs of agencies and their clients.

Respondents: Not-for-profit institutions; Local, State, or Tribal Government.

Estimated Number of Respondents: 1,614.

Estimated Number of Responses: 1,614.

Frequency of Response: 1.

Average Hours per Response: 1.

Total Estimated Burden: 1,614.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. Chapter 35.

Colette Pollard,
Department Reports Management Officer, Office of the Chief Information Officer.

[FR Doc. 2021-15773 Filed 7-23-21; 8:45 am]

BILLING CODE 4210-67-P